DEPARTMENT OF LABOR

Occupational Safety and Health Administration

[Docket No. OSHA-2022-0006]

Stakeholder Meeting on OSHA Initiatives To Protect Workers From Heat-Related Hazards

AGENCY: Occupational Safety and Health Administration (OSHA), Labor.

ACTION: Notice of stakeholder meeting.

SUMMARY: OSHA invites interested parties to participate in a stakeholder meeting on the agency's initiatives to protect workers from heat-related hazards. OSHA will provide an overview of its ongoing activities to protect workers from heat-related hazards, as well as an introduction to the agency's rulemaking process and ways for the public to participate in that process. Additionally, participants are invited to provide public comments and ask questions related to OSHA's ongoing efforts to prevent heat injury and illness in outdoor and indoor work settings.

DATES: The stakeholder meeting will be held from 12:00 p.m. to 5:00 p.m. ET on May 3, 2022.

ADDRESSES: The meeting will take place virtually using Zoom.

Registration: If you would like to attend, provide public comment, or ask questions, please register online at https://projects.erg.com/conferences/osha/osha-heat.html. If you are interested in providing public comments, you must indicate that while registering. In order to accommodate many speakers, public comments will be limited to no more than three minutes during this meeting. The duration of speaking time is subject to change, and the time allotted for each speaker will be finalized upon the close of registration. Although OSHA welcomes all comments and seeks to accommodate many speakers at the meeting, it may not be possible to accommodate all stakeholder requests to speak at the meeting. The order of speakers will be determined based on affiliation and will be confirmed with speakers prior to the event.

Those who cannot attend the meeting and those who are unable or choose not to make verbal comments during the meeting are invited to submit their comments in writing to OSHA via the instructions below.

Public Comments: Those who cannot attend the meeting and those who are unable or choose not to make verbal comments during the meeting are invited to submit their comments in writing. You may submit comments and additional materials electronically until August 1, 2022.

Comments may be submitted as follows:

Electronically: You may submit comments and attachments, identified by Docket No. OSHA-2022-0006, electronically at www.regulations.gov, which is the Federal e-Rulemaking Portal. Follow the online instructions for submitting comments. All written submissions must include the agency's name and the docket number for this public meeting (Docket No. OSHA-2022-0006).

Docket: To read or download comments or other material in the docket go to https://www.regulations.gov, identified by Docket No. OSHA-2022-0006. Documents in the docket are listed in the https://www.regulations.gov index; however, some information (e.g., copyrighted material) is not publicly available to read or download through this website. All submissions, including copyrighted material, are available for inspection through the OSHA Docket Office. Contact the OSHA Docket Office at (202) 693-2350 (TTY (877) 889-5627) for assistance in locating docket submissions.

Instructions: All submissions must include the agency's name and the docket number for this meeting (Docket No. OSHA-2022-0006). All comments, including any personal information you provide, are placed in the public docket without change and may be made available online at www.regulations.gov. Therefore, OSHA cautions commenters about submitting information they do not want made available to the public or submitting materials that contain personal information (either about themselves or others), such as Social Security Numbers and birthdates.

Requests for special accommodations: Please submit requests for special accommodations for this stakeholder meeting during registration.

FOR FURTHER INFORMATION CONTACT:

Press Inquiries: Contact Frank Meilinger, Director, Office of Communications, U.S. Department of Labor; telephone (202) 693-1999; email meilinger.francis2@dol.gov.

General and technical information: Contact Lisa Long, Acting Deputy Director, Directorate of Standards and Guidance, U.S. Department of Labor; telephone (202) 693-1950.

SUPPLEMENTARY INFORMATION:

I. Background

Workers in both outdoor and indoor work settings without adequate climate-controlled environments are at risk of hazardous heat exposure. Workers of color are disproportionately exposed to hazardous levels of heat in essential jobs across these work settings. Climate change is increasing the frequency and intensity of hazardous heat events, which puts more workers at risk of hazardous heat exposure, including in areas of the U.S. not historically impacted by hazardous heat. OSHA has several ongoing initiatives to reduce occupational heat illnesses, injuries, and fatalities. During this stakeholder meeting, OSHA will present an overview of its ongoing activities to protect workers from heat-related hazards, as well as an introduction to the agency's rulemaking process and ways for the public to participate in that process. The agency will also provide an overview of the following topics: (1) The agency's Heat Illness Prevention Campaign, (2) compliance assistance activities, and (3) enforcement efforts. At the end of each OSHA information session, stakeholders will have an opportunity to ask questions about the presentations.

Additionally, this meeting will include periods for public comment and testimony during which OSHA is interested in receiving feedback from stakeholders on how OSHA can more effectively serve the public through its heat injury and illness prevention activities. OSHA is requesting comment from interested parties, including from state and local governments, tribal governments, non-governmental organizations, labor unions, academia, business and industry, tribal/indigenous organizations, and community-based organization stakeholders, as well as individuals, including affected workers, regarding these topics. Case studies, real world examples, and any data to support the comments are encouraged.

II. Meeting Format

The meeting will feature brief presentations from OSHA on the topics outlined in this notice, followed by opportunities for stakeholders to ask questions about the presentations. There will also be public comment and testimony periods during which OSHA is interested in receiving feedback from stakeholders. Participants should focus on providing comment on the topics provided in this notice. OSHA plans to use this meeting to establish an open dialogue with stakeholders, and information presented to the agency may be used to inform future activities on preventing heat illness and injury in indoor and outdoor workplaces. Written comments may also be provided to OSHA at the conclusion of the meeting, or as a follow-up to the meeting. Those who cannot attend the meeting and those who are unable or choose not to make verbal comments during the meeting are also invited to submit their comments in writing. The meeting will take place virtually using Zoom and will be available for concurrent viewing by the public on the DOL YouTube channel. The meeting will be broadcast in English and Spanish and may be archived for future viewing. More information on registration is provided above.

Authority and Signature

Douglas L. Parker, Assistant Secretary of Labor for Occupational Safety and Health, U.S. Department of Labor, 200 Constitution Avenue NW, Washington, DC 20210, authorized the preparation of this document pursuant to the following authorities: 29 U.S.C. 653, 655, and 657, Secretary's Order 8-2020 (85 FR 58393; Sept. 18, 2020), and 29 CFR part 1911.

Douglas L. Parker,
Assistant Secretary of Labor for Occupational Safety and Health.

[FR Doc. 2022-07251 Filed 4-5-22; 8:45 am]

BILLING CODE 4510-26-P